DEPARTMENT OF THE TREASURY

Internal Revenue Service

Recruitment Notice for the Taxpayer Advocacy Panel

AGENCY: Internal Revenue Service (IRS), Treasury.

ACTION: Notice.

SUMMARY: Notice of open season for recruitment of IRS Taxpayer Advocacy Panel (TAP) Members.

DATES: October 24, 2024, through November 14, 2024.

FOR FURTHER INFORMATION CONTACT: Fred N. Smith, Jr. at 202-317-3087 (not a toll-free call).

SUPPLEMENTARY INFORMATION: Notice is hereby given that the Department of the Treasury and the Internal Revenue Service (IRS) are inviting individuals to help improve the nation's tax agency by applying to be members of the Taxpayer Advocacy Panel (TAP). The mission of the TAP is to listen to taxpayers, identify issues that affect taxpayers, and make suggestions for improving IRS service and customer satisfaction. The TAP serves as an advisory body to the Secretary of the Treasury, the Commissioner of Internal Revenue, and the National Taxpayer Advocate. TAP members will participate in subcommittees that channel their feedback to the IRS through the Panel's parent committee.

The IRS is seeking applicants who have an interest in good government, a personal commitment to volunteer approximately 200 to 300 hours a year, and a desire to help improve IRS customer service. As a Federal advisory committee, TAP is required to have a fairly balanced membership in terms of the points of view represented. Thus, TAP membership represents a cross-section of the taxpaying public with at least one member from Arkansas, Iowa, Kansas, Kentucky, Maine, Minnesota, Missouri, North Carolina, North Dakota, Nebraska, Oklahoma, Puerto Rico, Vermont, Wisconsin, Wyoming. Potential candidates must be U.S. citizens, not a current employee of any Bureau of the Treasury Department or have worked for any Bureau of the Treasury Department within the three years of December 1 of the current year and must pass a Federal tax compliance check and a Federal Bureau of Investigation criminal background investigation. Applicants who practice before the IRS must be in good standing with the IRS (meaning not currently under suspension or disbarment). Federally-registered lobbyists cannot be members of the TAP. The IRS is seeking members or alternates in the following locations: Arkansas, Iowa, Kansas, Kentucky, Maine, Minnesota, Missouri, North Carolina, North Dakota, Nebraska, Oklahoma, Puerto Rico, Vermont, Wisconsin, Wyoming. TAP members are a diverse group of citizens who represent the interests of taxpayers, from their respective geographic locations as well as taxpayers overall. Members provide feedback from a taxpayer's perspective on ways to improve IRS customer service and administration of the Federal tax system, by identifying grassroots taxpayer issues. Members should have good communication skills and be able to speak to taxpayers about TAP and its activities, while clearly distinguishing between TAP positions and their personal viewpoints.

Interested applicants should visit the TAP website at www.improveirs.org for more information about TAP. Applications may be submitted online at www.usajobs.gov. For questions about TAP membership, call the TAP toll-free number, 1-888-912-1227 and select prompt 5. Callers who are outside of the U.S. should call 202-317-3087 (not a toll-free call).

The opening date for submitting applications is October 24, 2024, and the deadline for submitting applications is November 14, 2024. Interviews will be held. The Department of the Treasury will review the recommended candidates and make final selections. New TAP members will serve a three-year term starting in December 2024. (Note: highly ranked applicants not selected as members may be placed on a roster of alternates who will be eligible to fill future vacancies that may occur on the Panel.)

Questions regarding the selection of TAP members may be directed to Fred N. Smith, Jr., Taxpayer Advocacy Panel, Internal Revenue Service, 1111 Constitution Avenue NW, TA:TAP Room 1509, Washington, DC 20224, or 202-317-3087 (not a toll-free call).

Dated: October 25, 2024.
Shawn Collins,
Director, Taxpayer Advocacy Panel.

[FR Doc. 2024-25245 Filed 10-30-24; 8:45 am]

BILLING CODE 4830-01-P